DEPARTMENT OF TRANSPORTATION

Coast Guard

33 CFR Part 117

[CGD09-01-008]

RIN-2115-AE47

Drawbridge Operation Regulations; Cheboygan River, MI

AGENCY: Coast Guard, DOT.

ACTION: Final rule.

SUMMARY: The Coast Guard is revising the operating regulation governing the U.S. 23 bridge at mile 0.9 over Cheboygan River in Cheboygan, Michigan. This rule revises the advance notice requirement for vessels during winter months. Vessels are required to provide 12-hour advance notice between December 15 and March 31 each year.

DATES: This rule is effective July 18, 2001.

ADDRESSES: Comments and material received from the public, as well as all material in the docket CGD09-01-008, are available for inspection or copying at the office of Commander (obr), Ninth Coast Guard District, 1240 East Ninth Street, Room 2019, Cleveland, OH 44199-2060 between 6:30 a.m. and 3 p.m., Monday through Friday, except Federal holidays. The telephone number is (216) 902-6084.

FOR FURTHER INFORMATION CONTACT: Mr. Scot M. Striffler, Project Manager, Ninth Coast Guard District Bridge Branch, at (216) 902-6084.

SUPPLEMENTARY INFORMATION:

Regulatory Information

On March 28, 2001, the Coast Guard published a notice of proposed rulemaking (NPRM) concerning the drawbridge regulation in the Federal Register (66 FR 16895). We received no comments concerning the proposed rule. No public hearing was requested and none was held.

Background and Purpose

The owner of the U.S. 23 bridge, Michigan Department of Transportation (MDOT), requested the Coast Guard approve a modified schedule for the winter operations of the bridge. The current regulation contained in 33 CFR 117.627 requires the bridge to open if at least 24 hours notice is provided between December 15 and March 15 each year. Records submitted by MDOT showed no requested bridge openings between March 15 and April 1 in 1998, 1999, and 2000. We determined that it would be reasonable to revise the date in spring that the bridge is required to be manned from March 15 to March 31. However, the 24-hour advance notice requirement was determined to be inconsistent with standard times in the Great Lakes and would not serve the reasonable needs of known navigation. Therefore, the revised schedule was developed to reflect the established times of need for vessels and provide an advance notice requirement that is consistent with seamanship practices on the Great Lakes. The revised schedule will require vessels provide at least 12-hours advance notice prior to intended time of passing between December 15 and March 31. The current regulation requires the bridge to open as soon as possible at all times for commercial vessels and vessels used for public safety. There is no revision to that requirement in this rule. This schedule is believed to provide a reasonable balance between the needs of the owner of the bridge to eliminate costs for tender service during periods of no vessel activity, and all known navigation that may require openings of the drawbridge in early spring each year.

Discussion of Comments and Changes

The Coast Guard received no comments to the notice of proposed rulemaking. No changes will be made to this final rule.

Regulatory Evaluation

This rule is not a significant regulatory action under section 3(f) of Executive Order 12866 and does not require an assessment of potential costs and benefits under section 6(a)(3) of that order. The Office of Management and Budget has not reviewed it under that Order. It is not significant under the regulatory policies and procedures of the Department of Transportation (DOT) (44 FR 11040; February 26, 1979). The Coast Guard expects the economic impact of this rule to be so minimal that a full Regulatory Evaluation under paragraph 10e of the regulatory policies and procedures of DOT is unnecessary.

This determination is based on the relatively minor adjustment to the operating schedule near the end of the winter navigation season, the only documented vessel that would require openings has been identified and accommodated, and the bridge would still open for vessels once the advance notice is provided.

Small Entities

Under the Regulatory Flexibility Act (5 U.S.C. 601 et seq.), the Coast Guard must consider whether this rule will have a significant impact on a substantial number of small entities. “Small entities” may include small businesses and not-for-profit organizations that are independently owned and operated and are not dominant in their fields, and governmental jurisdictions with populations of less than 50,000 people.

The Coast Guard certifies under 5 U.S.C 605(b) that this rule will not have a significant economic impact on a substantial number of small entities. The 12-hour advance notice requirement during winter months is a standard practice on the Great Lakes and still provides for bridge openings with advance notice from vessel operators. No identified entities would be unable to pass the bridge, as needed.

Collection of Information

This rule calls for no new collection of information requirement under the Paperwork Reduction Act (44 U.S.C. 3501 et seq.).

Federalism

The Coast Guard has analyzed this rule under the principles and criteria contained in Executive Order 13132, and determined that this rule does not have federalism implications under that Order.

Unfunded Mandates Reform Act

The Unfunded Mandates Reform Act of 1995 (2 U.S.C. 1531-1538) governs the issuance of federal regulations that require unfunded mandates. An unfunded mandate is a regulation that requires a state, local, or tribal government or the private sector to incur direct costs without the federal government having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that, under figure 2-1, paragraph 34(g) of Commandant Instruction M16475.lC, this rule is categorically excluded from further environmental documentation. This rule changes a drawbridge regulation which has been found not to have a significant effect on the environment. A “Categorical Exclusion Determination” is not required.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 117

Bridges.

For reasons set out in the preamble, the Coast Guard revises Part 117 of Title 33, Code of Federal Regulations, as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. In § 117.627 revise paragraphs (a), (b), and (c) to read as follows:

§ 117.627 Cheboygan River.

* * * * *

(a) From April 1 through May 15 and from September 16 through December 14, the draw shall open on signal.

(b) From May 16 through September 15—

(1) Between the hours of 6 p.m. and 6 a.m., seven days a week, the draw shall open on signal.

(2) Between the hours of 6 a.m. and 6 p.m., seven days a week, the draw need open only from three minutes before to three minutes after the quarter-hour and three-quarter hour.

(c) From December 15 through March 31, no bridgetender is required to be at the bridge and the draw need not open unless a request to open the draw is given at least 12-hours in advance of a vessels intended time of passage through the draw.

* * * * *

Dated: June 1, 2001.
James D. Hull,
Rear Admiral, U.S. Coast Guard, Commander, Ninth Coast Guard District.

[FR Doc. 01-15276 Filed 6-15-01; 8:45 am]

BILLING CODE 4910-15-U